CORPORATION FOR NATIONAL AND COMMUNITY SERVICE

Agency Information Collection Activities; Submission to the Office of Management and Budget for Review and Approval; Comment Request; Application Package for Disaster Response Cooperative Agreement Proposed Information Collection; Comment Request

AGENCY: Corporation for National and Community Service.

ACTION: Notice.

SUMMARY: The Corporation for National and Community Service (CNCS, operating as AmeriCorps) has submitted a public information collection request (ICR) entitled Application Package for Disaster Response Cooperative Agreement (DRCA) for review and approval in accordance with the Paperwork Reduction Act.

DATES: Written comments must be submitted to the individual and office listed in the ADDRESSES section by April 5, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling AmeriCorps, Luke Wigle, at 202-409-4791 or by email to lwigle@cns.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on November 12, 2020 at Vol. FR Pages 71887-71888. This comment period ended January 11, 2021. No public comments were received from this Notice.

Title of Collection: CNCS Disaster Response Cooperative Agreements.

OMB Control Number: 3045-0133. Type of Review: Renewal.

Respondents/Affected Public: Business and Organizations.

Total Estimated Number of Annual Responses: 100.

Total Estimated Number of Annual Burden Hours: 200.

Abstract: AmeriCorps seeks renewal of the current information collection pursuant to the Domestic Volunteer Service Act of 1973 (42 U.S.C. 4950 et seq.) and the National and Community Service Act of 1990, (42 U.S.C. 12501 et seq.) The information collected will be used to help AmeriCorps more effectively utilize its deployable resources to meet the needs of disaster affected communities. A better understanding of the participating programs will allow AmeriCorps to match the capabilities of the programs to the needs of the communities and will allow better asset mapping and resource typing. Additionally, the information collected will allow AmeriCorps to conduct better outreach to interested programs by providing them with more information about AmeriCorps disaster procedures, reimbursement requirements, and support services offered.

The revisions are intended to streamline the application process and ensure interested programs meet the appropriate programmatic and fiscal requirements to successfully execute disaster response activities. Additionally, the supporting forms will help AmeriCorps identify and deploy programs more effectively and efficiently, matching the capabilities of the programs to the needs of the communities requesting assistance.

The additional tools and forms under the DRCA will allow for effective information collection during a disaster event as well as assess the capacity of all DRCA programs throughout the year.

The information collection will otherwise be used in the same manner as the existing application. AmeriCorps also seeks to continue using the current application until the revised application is approved by OMB. The current application is due to expire on March 31, 2021.

Dated: February 26, 2021.
Jacob Sgambati,
Acting Deputy Director, National Civilian Community Corps.

[FR Doc. 2021-04604 Filed 3-4-21; 8:45 am]

BILLING CODE 6050-28-P